DEPARTMENT OF THE TREASURY

Submission for OMB Review; Comment Request

August 11, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 19, 2005, to be assured of consideration.

Internal Revenue Service (IRS)

OMB Number: 1545-0090.

Form Number: IRS Form 1040-SS, 1040-PR and Anejo H-PR.

Type of Review: Extension.

Title: Form 1044-SS and 1040-PR is used by self-employed individuals to figure and report self-employment tax and is also used by bona-fide residents of Puerto Rico to claim the additional child tax credit.

Description: Form 1040-SS (Virgin Islands, Guam, American Samoa, and the Northern Marina Islands) and 1040-PR (Puerto Rico) are used by self-employed individuals to figure and report self-employment tax under IRC chapter 2 of Subtitle A and provide credit to the taxpayer's social security account. Anejo H-PR is used to compute household employment taxes. Form 1040-SS and Form 1040-PR are also used by bona-fide residents of Puerto Rico to claim the additional child tax credit.

Respondents: Business and other for-profit, individuals or households and farms.

Estimated Total Burden Hours: 2,762,588 hours.

OMB Number: 1545-1398.

Form Number: IRS Form 9620.

Type of Review: Extension.

Title: Race and National Origin Identification.

Description: Form 9620 is used to collect race and national origin data on all IRS employees and new hires. The information is used to insure that agency personnel practices meet the requirements of Federal law.

Respondents: Individuals or households and Federal government.

Estimated Total Burden Hours: 2,500.

OMB Number: 1545-1798.

Form Number: IRS Form 8718.

Type of Review: Extension.

Title: Use Fee for Exempt Organization Determination Letter Request.

Description: Form 8718 is used with each application for a determination letter. This form provides filers the means to enclosed their payment and indicate the type of request they are making.

Respondents: Business or other for profit and not for profit institutions.

Estimated Total Burden Hours: 16,667.

OMB Number: 1545-1937.

Type of Review: Extension.

Title: Notice 2005-41-Guidance Regarding Qualified Intellectual Property Contributions.

Description: Section 170 provides that a taxpayer's initial charitable contribution deduction for a contribution of intellectual property is limited to the lesser of the fair market value of property or the taxpayer's adjusted basis of the property.

Respondents: Business or other for profit.

Estimated Total Burden Hours: 30.

OMB Number: 1545-1940.

Type of Review: Extension.

Title: RP-101177-05 Revenue Procedure Regarding Extended Period of Limitations for Listed Transaction Situations.

Description: The revenue procedures provide procedures that taxpayers and material advisors may use to disclose a listed transaction that the taxpayer previously failed to disclose.

Respondents: Individuals or households and business or other for profit.

Estimated Total Burden Hours: 430.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. 05-16378 Filed 8-17-05; 8:45 am]

BILLING CODE 4830-01-P